SOCIAL SECURITY ADMINISTRATION

20 CFR Part 402

[Regulations No. 2]

RIN 0960-AF91

Availability of Information and Records to the Public

AGENCY: Social Security Administration.

ACTION: Final rules.

SUMMARY: These final rules amend our regulations to reflect organizational changes and to correct a typographical error. We are changing the title of the official responsible for decisions on Freedom of Information Act (FOIA) requests to conform to organizational changes. These revisions will inform the public of the change in the official designated as SSA's Freedom of Information Officer.

EFFECTIVE DATE: October 22, 2003.

FOR FURTHER INFORMATION CONTACT: Ethel Burrows, Social Insurance Specialist, Office of Public Disclosure, Office of the General Counsel, 1500 Dunleavy Building, Social Security Administration, 6401 Security Boulevard, Baltimore, Maryland 21235-6401, regulations@ssa.gov, (410) 965-3948 or TTY (410) 966-5609 for information about this rule. For information on eligibility or filing for benefits: Call our national toll-free numbers, 1-800-772-1213 or TTY 1-800-325-0778 or visit our Internet website, Social Security Online, at http://www.socialsecurity.gov.

Electronic Version

The electronic file of this document is available on the date of publication in the Federal Register at http://www.gpoaccess.gov/fr/index.html. It is also available on the Internet site for SSA (i.e., Social Security Online) at http://www.socialsecurity.gov.

SUPPLEMENTARY INFORMATION: On October 10, 2002, we published a notice of organizational and functional changes within the Office of the General Counsel (OGC) (67 FR 63185). The notice established the Office of Public Disclosure in OGC, which is now responsible for FOIA activities in SSA. The Office of Program Support, Office of Disclosure Policy previously performed this function, in the Office of Disability and Income Security Programs. On November 15, 2002, we published a notice deleting the Office of Program Support as an organization (67 FR 69287).

We last published final rules revising these sections in the Federal Register on January 29, 1997 (62 FR 4154). These changes we are publishing today do not affect any programs or the eligibility criteria for any programs.

Regulatory Procedures

Justification for Final Rule and for Waiving the 30-Day Delay in the Effective Date

Pursuant to section 702(a)(5) of the Social Security Act, 42 U.S.C. 902(a)(5), we follow the Administrative Procedure Act (APA), 5 U.S.C. 553. The APA provides exceptions to its notice and public comment procedures when an agency finds there is good cause for dispensing with such procedures because they are impracticable, unnecessary, or contrary to the public interest. We have determined that, under 5 U.S.C. 553(b)(B), good cause exists for dispensing with the notice of proposed rulemaking and public comment procedures for these rules. Good cause exists because we are making no substantive changes in these final rules. We are merely updating the sections of our regulations where the organizational structure changed for the Office of Public Disclosure and making one typographical correction. Therefore, we have determined that opportunity for prior comment is unnecessary, and we are issuing this regulation as final rules. In addition, we find good cause for dispensing with the 30-day delay in the effective date of a substantive rule provided by 5 U.S.C. 553(d). As explained above, we are not making any substantive changes in our regulations.

Executive Order 12866, as Amended by Executive Order 13258

We have consulted with the Office of Management and Budget (OMB) and determined that these final rules do not meet the criteria for a significant regulatory action under Executive Order 12866, as amended by Executive Order 13258. Thus, they were not subject to OMB review.

Regulatory Flexibility Act

We certify that these final rules will not have a significant economic impact on a substantial number of small entities. Therefore, a regulatory flexibility analysis as provided in the Regulatory Flexibility Act, as amended, is not required.

Paperwork Reduction Act

These rules impose no additional reporting and recordkeeping requirements that require OMB clearance.

(Catalog of Federal Domestic Assistance Program Nos. 96.001 Social Security—Disability Insurance; 96.002 Social Security—Retirement Insurance; 96.004 Social Security—Survivors Insurance; 96.006 Supplemental Security Income; and 96.020 Special Benefits for Certain World War II Veterans.)

List of Subjects in 20 CFR Part 402

Administrative practice and procedure, Archives and records, Freedom of information.

Dated: October 10, 2003.
Jo Anne B. Barnhart,
Commissioner of Social Security.

For the reasons set out in the preamble, we are amending part 402 of chapter III of title 20 of the Code of Federal Regulations as follows:

PART 402—AVAILABILITY OF INFORMATION AND RECORDS TO THE PUBLIC

1. The authority citation for part 402 continues to read as follows:

Authority: Secs. 205, 702(a)(5), and 1106 of the Social Security Act; (42 U.S.C. 405, 902(a)(5), and 1306); 5 U.S.C. 552 and 552a; 8 U.S.C. 1360; 18 U.S.C. 1905, 26 U.S.C. 6103; 36 U.S.C. 923b; 31 U.S.C. 9701; E.O. 12600, 52 FR 23781, 3 CFR, 1987 Comp., p. 235.

2. Section 402.125 is amended by removing the words “Director, Office of Disclosure Policy” and adding in their place the words “Deputy Executive Director for the Office of Public Disclosure, Office of the General Counsel.”

3. Section 402.135 is amended by removing the words “The Director, Office of Disclosure Policy” and adding in their place the words “The Deputy Executive Director for the Office of Public Disclosure, Office of the General Counsel.”

4. In section 402.180, paragraph (a), the cross-reference to § 402.120 is revised to § 402.140.

5. In § 402.190, paragraph (a) is amended by removing the words “Director, Office of Disclosure Policy” and adding in their place the words “Deputy Executive Director for the Office of Public Disclosure, Office of the General Counsel.”

6. Section 402.195, paragraph (a) is amended by removing the words “Director of the Office of Disclosure Policy” and adding in their place the words “Deputy Executive Director for the Office of Public Disclosure, Office of the General Counsel.”

[FR Doc. 03-26586 Filed 10-21-03; 8:45 am]

BILLING CODE 4191-02-P